NATIONAL SCIENCE FOUNDATION

Advisory Committee for Cyberinfrastructure; Notice of Meeting

In accordance with the Federal Advisory Committee Act (Pub. L. 92-463, as amended), the National Science Foundation (NSF) announces the following meeting:

Name and Committee Code: Advisory Committee for Cyberinfrastructure (25150).

Date and Time: September 19, 2022; 10:00 a.m.-5:00 p.m.; September 20, 2022; 10:00 a.m.-5:00 p.m.

Place: Virtual Meeting, National Science Foundation, 2415 Eisenhower Avenue, Alexandria, VA 22314.

This meeting will be held virtually. The final meeting agenda and instructions to register will be posted on the ACCI website: https://www.nsf.gov/cise/oac/advisory.jsp.

Type of Meeting: Open.

Contact Person: Dr. Manish Parashar, CISE, Office of Advanced Cyberinfrastructure, National Science Foundation, 2415 Eisenhower Avenue, Alexandria, VA 22314; Telephone: 703-292-2274.

Minutes: May be obtained from Christine Cristy, CISE, Office of Advanced Cyberinfrastructure, National Science Foundation, 2415 Eisenhower Avenue, Alexandria, VA 22314; CChristy@nsf.gov and will be posted within 90-days after the meeting end date to the ACCI website: https://www.nsf.gov/cise/oac/advisory.jsp.

Purpose of Meeting: To advise NSF on the impact of its policies, programs and activities in the OAC community. To provide advice to the Director/NSF on issues related to long-range planning.

Agenda: Updates on NSF wide OAC activities.

Dated: August 18, 2022.
Crystal Robinson,
Committee Management Officer.

[FR Doc. 2022-18140 Filed 8-22-22; 8:45 am]

BILLING CODE 7555-01-P